RAILROAD RETIREMENT BOARD

Proposed Collection; Comment Request

Summary: In accordance with the requirement of Section 3506(c)(2)(A) of the Paperwork Reduction Act of 1995, which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Earnings Information Request; OMB 3220-0184; RRB Form G-19-F.

Under Section 2 of the Railroad Retirement Act, an annuity is not payable, or is reduced for any month(s) in which the beneficiary works for a railroad or earns more than prescribed amounts. The provisions relating to the reduction or non-payment of annuities by reason of work are prescribed in 20 CFR part 230.

The RRB utilizes Form G-19-F, Earnings Information Request, to obtain earnings information that either had not been previously reported or erroneously reported by a beneficiary. If a respondent fails to complete the form, the RRB may be unable to pay them benefits. One response is requested of each respondent.

The RRB proposes no changes to Form G-19-F. Approximately 900 G-19-F's are completed annually at an estimated completion time of eight minutes per response. Total respondent burden is estimated at 120 hours.

Additional Information or Comments: To request more information or to obtain a copy of the information collection justification, forms, and/or supporting material, please call the RRB Clearance Officer at (312) 751-3363 or send an e-mail request to Charles.Mierzwa@RRB.Gov. Comments regarding the information collection should be addressed to Patricia A. Henaghan, Railroad Retirement Board, 844 North Rush Street, Chicago, Illinois 60611-2092 or e-mailed to Patricia.Henaghan@RRB.Gov. Written comments should be received within 60 days of this notice.

Charles Mierzwa,
RRB Clearance Officer.

[FR Doc. 2010-17368 Filed 7-15-10; 8:45 am]

BILLING CODE 7905-01-P